DEPARTMENT OF AGRICULTURE

Agricultural Marketing Service

[Document No. AMS-SC-25-0009]

Mango Promotion, Research, and Information Order; Continuance Referendum

AGENCY: Agricultural Marketing Service, USDA.

ACTION: Notice.

SUMMARY: This notice directs that a referendum be conducted among eligible first handlers and importers of mangos to determine whether they favor continuance of the Agricultural Marketing Service's (AMS) regulations regarding a national mango research and promotion program.

DATES: This referendum will be conducted by express mail and electronic ballot from October 22, 2025 through November 12, 2025. Ballots delivered to AMS via express mail or electronic ballot must show proof of delivery by no later than 11:59 p.m. Eastern Time on November 12, 2025. Eligible persons will receive a ballot through the mail and may cast it either through express mail or electronic ballot. Each person who is an eligible first handler or importer at the time of the referendum and during the representative period from January 1, 2024, through December 31, 2024, shall be entitled to cast a ballot in the referendum.

ADDRESSES: Copies of the Mango Promotion, Research and Information Order (Order) may be obtained from: Referendum Agent, Market Development Division, Specialty Crops Program, AMS, USDA, 1400 Independence Avenue SW, Room 1406-S, Stop 0244, Washington, DC 20250-0244, telephone: (202) 720-8085 or contact George Webster via electronic mail: George.Webster@usda.gov.

FOR FURTHER INFORMATION CONTACT: George Webster, Marketing Specialist, or Alexandra Caryl, Branch Chief, Mid-Atlantic Region Branch, Market Development Division, Specialty Crops Program; telephone (202) 720-8085 or email: George.Webster@usda.gov or Alexandra.Caryl@usda.gov.

SUPPLEMENTARY INFORMATION: Pursuant to the Commodity Promotion, Research, and Information Act of 1996 (7 U.S.C. 7411-7425) (Act), it is hereby directed that a referendum be conducted to ascertain whether continuance of the Mango Promotion, Research and Information Order (Order) (7 CFR part 1206) is favored by a majority of eligible first handlers and importers covered under the program.

The representative period for establishing voter eligibility is January 1, 2024, through December 31, 2024. First handlers who received 500,000 or more pounds of fresh mangos from producers and importers who imported 500,000 or more pounds of fresh mangos into the United States during the representative period are eligible to vote. Persons who received an exemption from assessments pursuant to §§ 1206.43 and 1206.202 for the entire representative period are ineligible to vote. The referendum will be conducted by express mail and electronic ballot from October 22, 2025 through November 12, 2025. Further details will be provided in the ballot instructions.

Section 518 of the Act (7 U.S.C. 7417) authorizes continuance referenda. Under § 1206.71(b) of the Order, USDA must conduct a referendum every five years, at the request of 10 percent or more of the number of persons eligible to vote in a referendum, or at any time as determined by the Secretary. The program's last continuance referendum was conducted in 2020; therefore, a referendum must be held in 2025 to comply with the Order.

USDA would continue the Order if it is favored by a majority of first handlers and importers voting in the referendum. If not favored, USDA would comply with the termination procedures at § 1206.73 and conduct rulemaking to remove provisions of the Order.

In accordance with the Paperwork Reduction Act of 1995 (44 U.S.C. chapter 35), the referendum ballot has been approved by the Office of Management and Budget (OMB) and assigned OMB No. 0581-0093. Approximately 110 entities will be eligible to vote in the referendum. It will take an average of 15 minutes for each voter to read the voting instructions and complete the referendum ballot.

Referendum Order

George Webster, Marketing Specialist, and Alexandra Caryl, Branch Chief, Mid-Atlantic Region Branch, Market Development Division, SCP, AMS, USDA, Stop 0244, Room 1406-S, 1400 Independence Avenue SW, Washington, DC 20250-0244, are designated as the referendum agents to conduct this referendum. The referendum procedures at §§ 1206.100 through 1206.108 of the Order, which were issued pursuant to the Act, shall be used to conduct the referendum.

The referendum agents will express mail ballots and voting instructions, including how to vote electronically, to all known, eligible first handlers and importers prior to the first day of the voting period. Any eligible first handler or importer who does not receive a ballot should contact a referendum agent no later than three days before the end of the voting period. Ballots delivered via express mail or electronic ballot must show proof of delivery by no later than 11:59 p.m. Eastern Time on November 12, 2025.

(Authority: 7 U.S.C. 7411-7425; 7 U.S.C. 7401.)

Erin Morris,
Administrator, Agricultural Marketing Service.

[FR Doc. 2025-18230 Filed 9-19-25; 8:45 am]

BILLING CODE 3410-02-P